DEPARTMENT OF HEALTH AND HUMAN SERVICES

Substance Abuse and Mental Health Services Administration

Fiscal Year (FY) 2025 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements (in the scope of the parent award) for the 60 eligible grant recipients funded in FY 2025 under the Substance Use Prevention, Treatment, and Recovery Services Block Grant (SUBG). Recipients may receive an amount from $25,000 to approximately $2,400,000 for a total funding amount of $18,000,000. These recipients have a project end date of September 30, 2026. If any grantee declines the supplement, the remaining balance will be redistributed to the recipients that accept the supplement using the SUBG formula. The supplemental funding will be used for providing and/or obtaining training and technical assistance and activities that are in the scope of the SUBG for grantees and providers, or workforce development meetings and activities.

FOR FURTHER INFORMATION CONTACT: Spencer Clark, Chief, CSAT State Systems Partnership Branch, Substance Abuse and Mental Health Services Administration, 5600 Fishers Lane, Rockville, MD 20857, Phone: 240-276-0121; Email: Spencer.Clark@samhsa.hhs.gov.

SUPPLEMENTARY INFORMATION:

Funding Opportunity Title: FY 2025 Substance Use Prevention, Treatment, and Recovery Services Block Grant.

Assistance Listing Number: 93.959.

Authority: Section 1935 of the Public Health Service Act.

Justification: This supplemental funding is limited in eligibility to only the recipients of the Substance Use Prevention, Treatment, and Recovery Services Block Grant, in order to carry out the authorized activities of the SUBG.

This is not a formal request for application. Assistance will only be offered to the 60 grant recipients funded in FY 2025 under the SUBG.

Dated: September 19, 2025.
Ann Ferrero,
Public Health Analyst.

[FR Doc. 2025-18423 Filed 9-22-25; 8:45 am]

BILLING CODE 4162-20-P